DEPARTMENT OF COMMERCE

National Oceanic and Atmospheric Administration

[RTID 0648-XE253]

Membership of the National Oceanic and Atmospheric Administration Performance Review Board

AGENCY: National Oceanic and Atmospheric Administration (NOAA), Department of Commerce (DOC).

ACTION: Notice of membership.

SUMMARY: NOAA announces the appointment of members who will serve on the 2024 NOAA Performance Review Board (PRB). The NOAA PRB is responsible for reviewing performance appraisals and ratings of Senior Executive Service, Senior Level, and Scientific and Professional members and making written recommendations to the appointing authority on retention and compensation matters, including performance-based pay adjustments, awarding of bonuses, and reviewing recommendations for potential Presidential Rank Award nominees. The appointment of members to the NOAA PRB will be for a period of 2 years.

DATES: The effective date of service of the 10 appointees to the NOAA Performance Review Board is October 21-25, 2024.

ADDRESSES: Written requests for further information may be mailed to Mr. Charles A. McLeod, Human Resources Specialist, Executive Resources Division, Office of Human Capital Services, NOAA, at 1305 East-West Highway, Silver Spring, Maryland 20910. See the FOR FURTHER INFORMATION CONTACT section below for additional contact methods.

FOR FURTHER INFORMATION CONTACT: Mr. Charles A. McLeod, 301-628-1883 or charles.mcleod@noaa.gov.

SUPPLEMENTARY INFORMATION: The names and positions of the members for the 2024 NOAA PRB are set forth below:

• Michelle McClure, Chair: Director, Pacific Marine Environmental Laboratory, NOAA;

• Deirdre Jones, Vice-Chair: Chief Administrative Officer, NOAA;

• Kevin Kimball: Sr. Advisor for Program Integration, National Institute of Standards and Technology;

• Jonathan Hare: Science and Research Director, Northeast Region, National Marine Fisheries Service, NOAA;

• Timothy Greten: Director, Office of Facilities, National Weather Service, NOAA;

• Lori Arguelles: Director of Strategic Communications, NOAA;

• El Sayed Talaat: Director, Office of Projects, Partnerships and Analysis, National Environmental Satellite, Data and Information Service, NOAA;

• Jeffery Payne: Director, Office of Coastal Management, National Oceans Service, NOAA;

• Marian Westley: Director, Center for Operational Oceanographic Products and Services, National Ocean Service, NOAA;

• Kenneth Harding: Chief Operating Officer, National Weather Service, NOAA;

• Bruce Pitts: Deputy Chief Administrative Officer, NOAA;

• Jennifer Mahoney: Director, Global Systems Laboratory, Office of Oceanic and Atmospheric Research, NOAA;

• Timothy Walsh: Director, Joint Polar Satellite Systems, National Environmental Satellite, Data and Information Service, NOAA;

• Jason Boehm: Chief of Staff, National Institute of Standards and Technology;

• Karen Hyun: Chief of Staff, NOAA.

Dated: August 28, 2024.
Richard W. Spinrad,
Under Secretary of Commerce for Oceans and Atmosphere and NOAA Administrator.

[FR Doc. 2024-19930 Filed 9-4-24; 8:45 am]

BILLING CODE 3510-12-P